DEPARTMENT OF HOUSING AND URBAN DEVELOPMENT

[Docket No. FR-5683-N-91]

30-Day Notice of Proposed Information Collection: HUD-Owned Real Estate—Sales Contract and Addendums

AGENCY: Office of the Chief Information Officer, HUD.

ACTION: Notice.

SUMMARY: On October 25, 2013 at 78 FR 64145, HUD inadvertently published a 30 day notice of proposed information collection entitled HUD-Owned Real Estate-Sales Contract and Addendums (2502-0306). HUD will republish the notice in the Federal Register at a later date. This notice withdraws the notice published on October 25, 2013.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

Dated: October 29, 2013.
Colette Pollard,
Department Reports Management Officer, Office of the Chief Information Officer.

[FR Doc. 2013-26327 Filed 11-1-13; 8:45 am]

BILLING CODE 4210-67-P